DEPARTMENT OF THE INTERIOR

Bureau of Indian Affairs

Notice of Service Area Designation

AGENCY: Bureau of Indian Affairs, Interior.

ACTION: Notice.

SUMMARY: This notice announces the service area designation for the Samish Indian Tribe which is recognized as eligible to receive services from the United States Federal Government Bureau of Indian Affairs (BIA). This notice is published in the exercise of the authority delegated by the Secretary of the Interior to the Assistant Secretary—Indian Affairs.

DATES: This service area designation becomes effective on September 30, 2004.

FOR FURTHER INFORMATION CONTACT: Larry Blair, Tribal Services, Bureau of Indian Affairs, Department of the Interior, 1951 Constitution Avenue, NW., MS-320-SIB, Washington, DC 20240-0001. Telephone: (202) 513-7640.

SUPPLEMENTARY INFORMATION: In accordance with 25 CFR part 20, Financial Assistance and Social Services programs, the Assistant Secretary—Indian Affairs designates the following locale as a service area appropriate for the extension of BIA financial assistance and/or social services. The Financial Assistance and Social Services programs regulations at 25 CFR part 20 have full force and effect when extending BIA financial assistance and/or social services into the service area location. The Samish Indian Tribe is authorized to extend financial assistance and social services to eligible tribal members and other eligible Indians who reside within the areas designated below.

Tribe: The Samish Indian Tribe.

Service Area Locations: The counties of Whatcom, Skagit, Snohomish, Island, and San Juan in the State of Washington.

Dated: August 17, 2004.
David W. Anderson,
Assistant Secretary—Indian Affairs.

[FR Doc. 04-19800 Filed 8-30-04; 8:45 am]

BILLING CODE 4310-4M-P